DEPARTMENT OF LABOR

Employee Benefits Security Administration

218th Meeting of the Advisory Council on Employee Welfare and Pension Benefit Plans; Notice of Meeting

Pursuant to the authority contained in section 512 of the Employee Retirement Income Security Act of 1974 (ERISA), 29 U.S.C. 1142, the 218th open meeting of the Advisory Council on Employee Welfare and Pension Benefit Plans (also known as the ERISA Advisory Council) will be held on September 19-21, 2023.

On Tuesday, September 19, 2023, the meeting will begin at 1:00 p.m. and end at approximately 4:45 p.m. (ET). On Wednesday, September 20, 2023, the meeting will begin at 8:30 a.m. and end at approximately 4:30 p.m. (ET), with a break for lunch. On Thursday, September 21, 2023, the meeting will begin at 8:30 a.m. and end at approximately 3:00 p.m. (ET), with a break for lunch.

The three-day meeting will take place at the U.S. Department of Labor, 200 Constitution Avenue NW, Washington, DC 20210 in Room 6, C5320. The meeting will also be accessible via teleconference and some participants, as well as members of the public, may elect to attend virtually. Instructions for public teleconference access will be available on the ERISA Advisory Council's web page at https://www.dol.gov/agencies/ebsa/about-ebsa/about-us/erisa-advisory-council approximately one week prior to the meeting.

The purpose of the open meeting is for Advisory Council members to hear testimony from invited witnesses on the 2023 study topics: (1) Long-Term Disability Benefits and Mental Health Disparity, and (2) Recordkeeping in the Electronic Age. Descriptions of the 2023 study topics are available on the ERISA Advisory Council's web page at https://www.dol.gov/agencies/ebsa/about-ebsa/about-us/erisa-advisory-council. Also, the ERISA Advisory Council members will receive an update from leadership of the Employee Benefits Security Administration (EBSA).

Organizations or members of the public wishing to submit a written statement on the 2023 study topics may do so on or before Tuesday, September 12, 2023, to Christine Donahue, Executive Secretary, ERISA Advisory Council. Statements should be transmitted electronically as an email attachment in text or pdf format to donahue.christine@dol.gov. Statements transmitted electronically that are included in the body of the email will not be accepted. Relevant statements received on or before Tuesday, September 12, 2023, will be included in the record of the meeting and made available through the EBSA Public Disclosure Room. No deletions, modifications, or redactions will be made to the statements received as they are public records. Warning: Do not include any personally identifiable or confidential business information that you do not want publicly disclosed.

Individuals or representatives of organizations interested in addressing the ERISA Advisory Council at the public meeting must submit a written request to the Executive Secretary on or before Tuesday, September 12, 2023, via email to donahue.christine@dol.gov. Requests to address the ERISA Advisory Council must include: (1) the name, title, organization, address, email address, and telephone number of the individual who would appear; (2) if applicable, the name of the organization(s) whose views would be represented; and (3) a concise summary of the statement that would be presented. Any oral presentation to the Council will be limited to ten minutes, but as indicated above, an extended written statement may be submitted for the record on or before September 12, 2023.

Individuals who need special accommodations should contact the Executive Secretary on or before Tuesday, September 12, 2023, via email to donahue.christine@dol.gov or by telephoning (202) 693-8641.

For more information about the meeting, contact the Executive Secretary at the address or telephone number above.

Signed at Washington, DC, this 11th day of August, 2023.
Lisa M. Gomez,
Assistant Secretary, Employee Benefits Security Administration.

[FR Doc. 2023-17622 Filed 8-15-23; 8:45 am]

BILLING CODE P